DEPARTMENT OF HEALTH AND HUMAN SERVICES

Food and Drug Administration

[Docket No. FDA-FDA-2025-N-0008]

Request for Nominations for Voting Members on the Tobacco Products Scientific Advisory Committee

Correction

In notice document 2025-11600, appearing on page 27023, in the issue of Wednesday, June 25, 2025, in the first column, in the DATES section, in the second line, “June 25, 2025” is corrected to read “August 25, 2025”.

[FR Doc. C1-2025-11600 Filed 7-10-25; 8:45 am]

BILLING CODE 0099-10-P